ENVIRONMENTAL PROTECTION AGENCY

[OPPTS-00325 FRL-6805-9]

Workshop on Characterizing and Presenting Summary Chemical Exposure Assessment Results

AGENCY: Environmental Protection Agency.

ACTION: Notice of Postponement of a Workshop.

SUMMARY: This notice is intended to advise interested persons that the Workshop on Characterizing and Presenting Summary Chemical Exposure Assessment Information scheduled for September 25 and 26, 2001 has been postponed. The Workshop Notice appeared in the Federal Register on September 17, 2001, (66 FR 48056) (FRL-6800-1). A new date has not been set for the workshop.

FOR FURTHER INFORMATION CONTACT: Fredric C. Arnold, Economics, Exposure, and Technology Division (7406), Office of Pollution Prevention and Toxics, 1200 Pennsylvania Avenue NW, Washington, DC 20460; telephone number: (202) 260-6146; e-mail: arnold.fred@epa.gov.

List of Subjects

Environmental protection.

Dated: September 21, 2001.
Mary Ellen Weber,
Director, Economics, Exposure and Technology Division.

[FR Doc. 01-24382 Filed 9-25-01; 3:27 pm]

BILLING CODE 6560-50-P